DEPARTMENT OF TRANSPORTATION

Office of the Secretary

DOT Partnership Council Meeting

AGENCY: Office of the Secretary, DOT

ACTION: Notice of meeting.

SUMMARY: The Department of Transportation announces a meeting of the DOT Partnership Council (the Council). Notice of this meeting is required under the Federal Advisory Committee Act.

TIME AND PLACE: The Council will meet on Wednesday, March 9, 2000, at 1:00 pm., at the Department of Transportation, Nassif Building, room 10214, 400 Seventh Street, SW., Washington, DC 20590. The room is located on the 10th floor.

TYPE OF MEETING: These meetings will be open to the public. Seating will be available on a first-come, first-served basis. Handicapped individuals wishing to attend should contact DOT to obtain appropriate accommodations.

POINT OF CONTACT: Jean B. Lenderking, Corporate Human Resource Leadership Division, M-13, Department of Transportation, Nassif Building, 400 Seventh Street, SW., room 7411, Washington, DC 20590, (202) 366-8085.

SUPPLEMENTARY INFORMATION: The purpose of this meeting is to present an approach for DOT labor-management strategic plan; provide an update on Phase II of the DOT labor-management climate study; brief on the FY 2001 budget; and report on initiatives/options for enhancing partnership efforts throughout DOT.

PUBLIC PARTICIPATION: We invite interested persons and organizations to submit comments. Mail or deliver your comments or recommendations to Ms. Jean Lenderking at the address shown above. Comments should be received by March 1, 2000 in order to be considered at the March 9th meeting.

Issued in Washington, DC, on February 16, 2000.
For the Department of Transportation.
John E. Budnik,
Acting Director, Departmental Office of Human Resource Management.

[FR Doc. 00-4342 Filed 2-23-00; 8:45 am]

BILLING CODE 4910-62-P